DEPARTMENT OF HEALTH AND HUMAN SERVICES

Centers for Disease Control and Prevention

[Program Announcement 02101]

Support for Epidemiology, Mathematical Modeling, and Tools for Monitoring the Impact of the Local Response to the HIV/AIDS Epidemic in Zimbabwe; Amendment I

A notice announcing the availability of Fiscal Year (FY) 2002 funds for cooperative agreements for Support for Epidemiology, Mathematical Modeling, and Tools for Monitoring the Impact of the Local Response to the HIV/AIDS Epidemic in Zimbabwe was published on June 21, 2002, (67 FR 42265-42268). The notice is amended as follows:

Page 42266, Column 3, Paragraph “E. Program Requirements, 1. Recipient Activities”, change and replace with the following:

E. Program Requirements

In conducting activities to achieve the purpose of this program, the recipient will be responsible for the activities under 1. Recipient Activities, and CDC will be responsible for the activities listed under 2. CDC Activities. Applicants need not address all listed Recipient activities, but should address at least three, including (c):

1. Recipient Activities

a. Train and support local staff of Ministry of Health and Child Welfare (MOHCW), National AIDS Council (NAC), ZNFPC, CDC-Zimbabwe, University of Zimbabwe School of Medicine, and other groups in epidemiology, surveillance, mathematical modeling, and related subjects that relate current epidemiologic status and indicators to long-term implications in terms of morbidity, mortality, and demographic and economic impact.

b. Support and contribute to analyses of epidemiologic and surveillance data (such as, antenatal HIV surveillance and the Young Adult Survey (YAS+) as required to help contribute to a clear informed profile of HIV in Zimbabwe. Such analyses may be hosted either by CDC Zimbabwe or by the MOHCW or NAC of Zimbabwe, or potentially other partners.

c. Develop a dynamic mathematical model of the HIV/AIDS epidemic at a national level in Zimbabwe, incorporating available data on HIV prevalence, incidence, mortality, and related variables, that yields a predictive model of the future of the epidemic.

d. Develop or adapt a mathematical model for the national epidemic in a fashion so as to be able to yield insights about the HIV epidemic at the District level in Zimbabwe, especially to allow characterization of local conditions and assessment of the potential impact of different local interventions.

e. Conduct research in Zimbabwe, especially among rural populations, of behavioral and other interventions, including, but not limited to: (1) the CDC Modeling and Reinforcement to Combat HIV (MARCH) strategy for behavior change; (2) the District Response Initiative of the NAC of Zimbabwe, and other efforts to organize or stimulate a broader response to HIV/AIDS in Zimbabwe; and (3) development and evaluation of tools for monitoring the response to HIV/AIDS at the local level, especially at the district level.

f. Assist in identifying opportunities and developing proposals for long-term training for Zimbabwean scientists, students, and public health officers in any or all of the above areas, to build national capacity for these areas of expertise.

Page 42267, Column 2, Paragraph “G. Submission and Deadline, Application”, change and replace with the following:

From August 5, 2002, to August 9, 2002.

Dated: July 26, 2002.
Edward J. Schultz,
Deputy Director, Procurement and Grants Office, Centers for Disease Control and Prevention.

[FR Doc. 02-19403 Filed 7-31-02; 8:45 am]

BILLING CODE 4163-18-P